DEPARTMENT OF LABOR

Employment and Training Administration

[TA-W-42,279]

LaGrange Foundry, LaGrange, MO; Notice of Termination of Investigation

Pursuant to Section 221 of the Trade Act of 1974, an investigation was initiated on October 28, 2002, in response to a petition filed on behalf of workers at LaGrange Foundry, LaGrange, Missouri.

The investigation revealed that there is an existing petition (TA-42,245) for the subject firm workers which was instituted on October 15, 2002.

Consequently, further investigation in this case would serve no purpose, and the investigation has been terminated.

Signed in Washington, DC this 7th day of November 2002.
Elliott S. Kushner,
Certifying Officer, Division of Trade Adjustment Assistance.

[FR Doc. 02-30064 Filed 11-26-02; 8:45 am]

BILLING CODE 4510-30-P